DEPARTMENT OF AGRICULTURE

Submission for OMB Review; Comment Request

June 22, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by July 28, 2017 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Request for Credit Account Approval for Reimbursable Services.

OMB Control Number: 0579-0055.

Summary of Collection: The Debt Collection Improvement Act of 1996 (Pub. L. 104-134 Section 31001(x)) of 31 U.S.C. 3332, as amended, requires that agencies collect tax identification numbers from all person doing business with the Government for purposes of collecting delinquent debts. The services of an inspector to clear imported and exported commodities requiring release by Agency personnel are covered by user fees during regular working hours. If an importer/exporter wishes to have a shipment of cargo or animals cleared at other hours, such services will usually be provided on a reimbursable overtime basis, unless already covered by a user fee. The Animal and Plant Health Inspection Service (APHIS) will collect information using an Application for Credit Account and Request for Service form.

Need and Use of the Information: APHIS will collect information to conduct a credit check on prospective applicants to ensure credit worthiness prior to extending credit services. Not checking credit worthiness before extending credit could greatly increase the number of debits the Agency would incur. Since this is a full-cost recovery program, nonpaying customers would reduce funds to run the program.

Description of Respondents: Business or other for-profit.

Number of Respondents: 261.

Frequency of Responses: Reporting: On occasion.

Total Burden Hours: 65.

Animal and Plant Health Inspection Service

Title: Importation of Fruit from Thailand.

OMB Control Number: 0579-0308.

Summary of Collection: Under the Plant Protection Act (7 U.S.C. 7701 et seq), the Secretary of Agriculture is authorized to carry out operations or measures to detect, eradicate, suppress, control, prevent, or retard the spread of plant pests new to the United States or not known to be widely distributed throughout the United States. The Animal and Plant Health Inspection Service (APHIS) fruit and vegetables regulations allow the importation into the United State of litchi, longan, mango, mangosteen, pineapple, and rambutan from Thailand. The fruit would have to be accompanied by a phytosanitary certificate with an additional declaration stating that the fruit had been tested with irradiation in Thailand and in the case of litchi, that the fruit had been inspected and found to be free of Peronophythora litchi, a fungal pest of litchi.

Need and Use of the Information: APHIS will use the following information collection activities to allow the importation of fruit from Thailand into the continental United States: (1) Phytosanitary Certificate; (2) Labeling; (3) Import Permit (PPQ 587); (4) Production Site Registrations & Monitoring; (5) Compliance Agreements (PPQ 519); (6) Approved Irradiation Facilities; (7) Recordkeeping; (8) Trust Fund Agreements; (9) Facility Operational Workplan; and (10) Foreign Site Certificate of Inspection and/or Treatment (PPQ 203). This information is used as a guide to the intensity of the inspection APHIS conduct when the shipment arrives. Without this information, all shipments would need to be inspected very thoroughly, thereby requiring considerably more time. This would slow the clearance of international shipments.

Description of Respondents: Federal Government (Foreign).

Number of Respondents: 12.

Frequency of Responses: Reporting: On occasion.

Total Burden Hours: 1,528.

Animal and Plant Health Inspection Service

Title: Phytophthora Ramorum; Quarantine and Regulations.

OMB Control Number: 0579-0310.

Summary of Collection: Under the Plant Protection Act (7 U.S.C. 7701 et seq.), the Secretary of Agriculture, either independently or in cooperation with the States, is authorized to carry out operations or measures to detect, eradicate, suppress, control, prevent, or retard the spread of plant pest new to the United States or not widely distributed throughout the United States. Under “Subpart-Phytophthora Ramorum” (7 CFR 301.92 through 301.92-12, referred to as the regulation), USDA's Animal and Plant Health Inspection Service (APHIS) restricts the interstate movement of certain regulated and restricted articles from quarantined areas in California and Oregon and regulated areas from California, Oregon, and Washington to prevent the artificial spread of Phytophthora ramorum, the pathogen that causes the plant disease commonly known as sudden oak death, ramorum left blight, and ramorum dieback.

Need and Use of the Information: APHIS will collect information through a compliance agreement to establish restrictions on the interstate movement of nursery stock from nurseries in non-quarantined counties in California, Oregon, and Washington. If California, Oregon, and Washington State did not comply with provisions by signing a compliance agreement, P. ramorum would have the potential to spread to eastern forests adversely impacting the ecosystem balances, foreign/domestic nursery stocks, and lumber markets.

Description of Respondents: Business or other for-profit and States.

Number of Respondents: 29.

Frequency of Responses: Recordkeeping; Reporting: On occasion.

Total Burden Hours: 199.

Animal and Plant Health Inspection Service

Title: Importation of Pomegranates from Chile under a System Approach.

OMB Control Number: 0579-0375.

Summary of Collection: Under the Plant Protection Act (7 U.S.C. 7701-7772), the Secretary of Agriculture is authorized to prohibit or restrict the importation, entry, or movement of plants and plant pests to prevent the introduction of plant pests into the United States or their dissemination within the United States. The regulations in “Subpart-Fruit and Vegetables” (7 CFR 319.56-58), prohibit or restrict the importation of fruits and vegetables into the United States from certain parts of the world to prevent the introduction and dissemination within the United States. The importation of pomegranates from Chile, into the continental United States, is under a system approach in which the fruit must be grown in a place of production that is registered with the Government of Chile and certified as having a low prevalence of Brevipalpus chilensis. The fruit undergoes pre-harvest sampling at the registered production site. After the post-harvest process, the fruit is inspected in Chile at an approved inspection site.

Need and Use of the Information: The Animal and Plant Health Inspection Service will use the following activities to collect information: Phytosanitary Certificate with/Additional Declaration, Production Site Registration, Marking of Cartons with Registration Number, and List of Certified Production Sites. Falling to collect this information would cripple APHIS' ability to ensure pomegranates from Chile are not carrying plant pests.

Description of Respondents: State, Local or Tribal Government; Federal Government.

Number of Respondents: 5.

Frequency of Responses: Reporting: On occasion.

Total Burden Hours: 480.

Animal and Plant Health Inspection Service

Title: Bovine Spongiform Encephalopathy (BSE); Importation of Animals and Animal Products.

OMB Control Number: 0579-0393.

Summary of Collection: The Animal Health Protection Act (AHPA) of 2002 is the primary Federal law governing the protection of animal health. The law gives the Secretary of Agriculture broad authority to detect, control, or eradicate pests or diseases of livestock or poultry. The Secretary may also prohibit or restrict import or export of any animal or related material if necessary to prevent the spread of any livestock or poultry pest or disease. The AHPA is contained in Title X, Subtitle E, Sections 10401-18 of Public Law 107-171, May 13, 2002, the Farm Security and Rural Investment Act of 2002. The Animal and Plant Health Inspection Service (APHIS) regulates the importation of animals and animal products into the United States to guard against the introduction of animal diseases. The regulations in 9 CFR parts 92 through 98, govern the importation of certain animals, birds, poultry, meat, other animal products and byproducts, hay, and straw. It also contains measures for preventing the introduction of various diseases into the United States.

Need and Use of the Information: To ensure BSE is not introduced into the United States, the regulations place specific conditions on the importation of animals and animal products. These requirements necessitate the use of several information collection activities, including, but not limited to, certification, official identification, request for and retention of classification as negligible or controlled risk, declaration of importation, import and export certificates, applications, import and movement permits, agreements, certification statements, seals, notifications, and recordkeeping. Failure to collect this information would make it impossible for APHIS to effectively prevent BSE-contaminated animals and animal products from entering the United States, and to track movement of any imported BSE-contaminated animals or products within the United States post-arrival.

Description of respondents: Business or other for-profit; Federal Government.

Number of Respondents: 2,225.

Frequency of Responses: Reporting: On occasion.

Total Burden Hours: 275,821.

Ruth Brown,
Departmental Information Collection Clearance Officer.

[FR Doc. 2017-13464 Filed 6-27-17; 8:45 am]

BILLING CODE 3410-34-P